DEPARTMENT OF HEALTH AND HUMAN SERVICES

Substance Abuse and Mental Health Services Administration

Fiscal Year (FY) 2023 Notice of Supplemental Funding Opportunity

AGENCY: Substance Abuse and Mental Health Services Administration, Department of Health and Human Services (HHS).

ACTION: Notice of intent to award supplemental funding to the American Indian and Alaska Native Addiction Technology Transfer Center (AI/AN ATTC) recipient funded in FY 2018 under Notice of Funding Opportunity (NOFO) TI-18-001.

SUMMARY: This notice is to inform the public that the Substance Abuse and Mental Health Services Administration (SAMHSA) is supporting an administrative supplement, which is consistent with the scope of the initial FY 2018 award, of up to $375,000 for nine months to the only funded AI/AN ATTC recipient. This recipient was funded in FY 2018 under the AI/AN ATTC Cooperative Agreement NOFO TI-18-001 and has a project end date of December 29, 2022. The supplemental funds will be used to provide a 9-month extension to continue the program services for the AI/AN ATTC from December 30, 2022, to September 29, 2023.

FOR FURTHER INFORMATION CONTACT: Twyla Adams, Substance Abuse and Mental Health Services Administration, 5600 Fishers Lane, Rockville, MD 20857, telephone (240) 276-1576; email: twyla.adams@samhsa.hhs.gov.

SUPPLEMENTARY INFORMATION: This extension will allow SAMHSA to align the project periods of the AI/AN ATTC with the Addiction Technology Transfer Centers (ATTC), Mental Health Technology Transfer Centers (MHTTC), and Prevention Technology Transfer Centers (PTTC) networks five-year funding cycle. The Technology Transfer Centers (TTCs) program is comprised of three networks (ATTC, MHTTC, and PTTC), which all use the same website and training and technical assistance platform. If the three networks are competed in different years and new organizations become award recipients of TTC programs, the structure of the common platform may be compromised. By competing the TTCs at the same time, if changes occur in award recipients, the new award recipients will be able to restructure the website and training platform within the first three months of the new funding cycle without disruptions.

Funding Opportunity Title: American Indian and Alaska Native Addiction Technology Transfer Centers (AI/AN ATTC) Cooperative Agreement NOFO TI-18-001.

Assistance Listing Number: 93.243.

Authority: ATTC cooperative agreements are authorized under Section 509 of the Public Health Service Act, as amended.

Justification: Eligibility for this supplemental funding is limited to the AI/AN ATTC funded in FY 2018 under the AI/AN ATTC Cooperative Agreement NOFO TI-18-001, as it is currently providing nationally focused treatment and recovery training activities that will continue to be funded through this supplement.

Alicia Broadus,
Public Health Advisor.

[FR Doc. 2022-25844 Filed 11-25-22; 8:45 am]

BILLING CODE 4162-20-P